DEPARTMENT OF HEALTH AND HUMAN SERVICES

Agency for Toxic Substances and Disease Registry

[ATSDR-252]

Availability of Final Toxicological Profiles

AGENCY: Agency for Toxic Substances and Disease Registry (ATSDR), Department of Health and Human Services (HHS).

ACTION: Notice of availability.

SUMMARY: This notice announces the availability of seven final toxicological profiles of priority hazardous substances. This is the 20th set of toxicological profiles that ATSDR has compiled. The profiles are available online at the ATSDR Web site: http://www.atsdr.cdc.gov/toxpro2.html.

FOR FURTHER INFORMATION CONTACT: Ms. Olga Dawkins, Division of Toxicology and Environmental Medicine, Agency for Toxic Substances and Disease Registry, Mailstop F-32, 1600 Clifton Road, NE., Atlanta, Georgia 30333, telephone (770) 488-3315.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and for the U.S. Environmental Protection Agency (EPA) with regard to hazardous substances most commonly found at facilities on the CERCLA National Priorities List (NPL). One such requirement directs the ATSDR Administrator to prepare toxicological profiles for each substance included on the priority lists of hazardous substances. These lists identify 275 hazardous substances determined by ATSDR and by U.S. EPA to pose the most significant potential threat to human health. The availability of the revised lists of the 275 priority substances was announced in the Federal Register on March 6, 2008 (73 FR 12178). For previous versions of the lists of substances, see Federal Register notices dated April 17, 1987 (52 FR 12866); October 20, 1988 (53 FR 41280); October 26, 1989 (54 FR 43619); October 17, 1990 (55 FR 42067); October 17, 1991 (56 FR 52166); October 28, 1992 (57 FR 48801); February 28, 1994 (59 FR 9486); April 29, 1996 (61 FR 18744; November 17, 1997 (62 FR 61332); October 21, 1999 (64 FR 56792); October 25, 2001 (66 FR 54014); November 7, 2003 (68 FR 63098) and December 7, 2005 (70 FR 72840).

Notice of the availability of toxicological profile drafts for public review and comment was published in the Federal Register on October 18, 2006, (71 FR 61471), with notice of a 90-day public comment period for each profile, starting from the actual release date. Following the close of the comment period, chemical-specific comments were addressed, and, where appropriate, changes were incorporated into each profile. The public comments and other data submitted in response to the Federal Register notices carry the docket control number ATSDR-225. This material is available for public inspection at the Division of Toxicology and Environmental Medicine, Agency for Toxic Substances and Disease Registry, 4700 Buford Highway, Building 106, Second Floor, Chamblee, Georgia 30341 between 8 a.m. and 4:30 p.m., Monday through Friday, except legal holidays.

Availability

This notice announces the availability of seven toxicological profiles of priority hazardous substances: six updated final toxicological profiles and one new final toxicological profile. This is the 20th set of toxicological profiles that ATSDR has compiled.

The following toxicological profiles are now available through the U.S. Department of Commerce, National Technical Information Service (NTIS), 5285 Port Royal Road, Springfield, Virginia 22161, telephone 1-800-553-6847. These profiles are available for a fee as determined by NTIS.

Twentieth Set:

Toxicological profile | NTIS order No. | CAS No.
1. Aluminum (Update) | PB2009-100001 | 007429-90-5
2. Cresols (Update) | PB2009-100002 | 001319-77-3
3. Diazinon (Update) | PB2009-100003 | 000333-41-5
4. Dichloropropenes (UPDATE) | PB2009-100004 | 000563-58-6 000563-54-2
|  | 000563-57-5
|  | 000078-88-6
|  | 010061-01-5
|  | 010061-02-6
|  | 000542-75-6
5. Guthion* | PB2009-100005 | 000086-50-0
6. Phenols (Update) | PB2009-100007 | 000108-95-2
7. 1,1,2,2-Tetrachloroethane (Update) | PB2009-100008 | 000079-34-5
* Denotes new profile.

Dated: January 28, 2009.
Ken Rose,
Director, Office of Policy, Planning and Evaluation, National Center for Environmental Health/Agency for Toxic Substances and Disease Registry.

[FR Doc. E9-2163 Filed 1-30-09; 8:45 am]

BILLING CODE 4163-70-P